DEPARTMENT OF HEALTH AND HUMAN SERVICES

Substance Abuse and Mental Health Services Administration

Advisory Committee for Women's Services; Amendment of Meeting Notice

Pursuant to Public Law 92-463, notice is hereby given of a change to the Web-based meeting of the Substance Abuse and Mental Health Services Administration's (SAMHSA) Advisory Committee for Women's Services (ACWS). The meeting was originally noticed to be convened on June 24 from 3 p.m. to 5 p.m. Eastern Time in the Federal Register dated June 13, 2011, Volume 76, Number 113, page 34231. This notice amends the time of the Web-based meeting to June 24 from 4 p.m. to 5 p.m. Eastern Time. There are no other changes. The meeting is open to the public.

For additional information, please contact Ms. Nevine Gahed, Designated Federal Official for SAMHSA's ACWS, 1 Choke Cherry Road, Room 8-1058, Rockville, Maryland 20857. Telephone: (240) 276-2331; Fax: (240) 276-2010; E-mail: nevine.gahed@samhsa.hhs.gov.

Dated: June 22, 2011.
Kana Enomoto,
Director, Office of Policy, Planning, and Innovation, Substance Abuse and Mental Health, Services Administration.

[FR Doc. 2011-16200 Filed 6-27-11; 8:45 am]

BILLING CODE 4162-20-P